DEPARTMENT OF EDUCATION

Notice of Public Hearing

AGENCY: U.S. Department of Education, National Assessment Governing Board.

ACTION: Notice of Public Hearing.

SUMMARY: The National Assessment Governing Board is announcing a public hearing on February 4, 2009 to obtain comment on policy options for testing and reporting of Students with Disabilities (SD) and English Language Learners (ELL) on the National Assessment of Educational Progress (NAEP).

Public and private parties and organizations are invited to present written and/or oral testimony. The hearing will be held in the Great Hall at the Charles Sumner School, 1201 17th Street, NW., Washington, DC from 9:30 a.m. to 3:00 p.m. est.

This notice sets forth the schedule and proposed agenda of a forthcoming public hearing of the National Assessment Governing Board. This notice also describes the functions of the Board. Notice of this meeting is required under Section 10 (a) (2) of the Federal Advisory Committee Act. This document is intended to notify members of the general public of their opportunity to provide comment. Individuals who will need special accommodations in order to attend the hearing (such as interpreting services, assistive listening devices, materials in alternative format) should notify Munira Mwalimu at 202-357-6938 or at Munira.Mwalimu@ed.gov no later than January 28, 2009. We will attempt to meet requests after this date, but cannot guarantee availability of the requested accommodation. The meeting site is accessible to individuals with disabilities.

DATES: February 4, 2009.

Location: Washington, DC Charles Sumner School, 1201 17th Street, NW., Washington, DC 20036.

Time: 9:30 a.m. to 3:00 p.m. est.

Background

Under Public Law 107-279, the National Assessment Governing Board (NAGB) is responsible for determining the content and methodology of the National Assessment of Educational Progress. The assessment is required to provide a fair and accurate measurement of student academic achievement through a random sampling process that produces representative data for the nation, the states, and other participating jurisdictions.

Despite changes in policy during the past decade, variations in inclusion and accommodation rates continue for students with disabilities and English language learners among states and urban districts participating in the National Assessment. These differences—both between jurisdictions and over time—continue to prompt concern about the fairness and comparability of NAEP results.

The Governing Board has established an Ad Hoc Committee of Board members to conduct a comprehensive examination of NAEP testing and reporting of these two student groups. The Committee is considering a range of possible options in formulating recommendations to better assure that NAEP samples are fully representative and produce comparable results. The Committee is also considering whether changes are needed in NAEP reporting to alert the public to significant variations that persist and the impact they may have on reported results.

In carrying out its work the Ad Hoc Committee is to consult widely with state and local officials and representatives of groups concerned with the populations and issues involved. It intends to draw on persons with strong research, policy, and practical backgrounds.

The policy options being considered are available under supplementary information in this notice and on the Web site of the Governing Board at www.nagb.org. Other related material on the Governing Board and the National Assessment of Educational Progress may be found at this Web site and at www.nces.ed.gov/nationsreportcard.

The Board is seeking comment from policymakers, teachers, researchers, state and local school administrators, specialists in SD and ELL students, parents of children in elementary and secondary schools, representatives of interested organizations, and members of the public. Representatives of the Governing Board will conduct the hearing to receive testimony, and may ask clarifying questions or respond to presentations. Oral presentations should not exceed ten minutes. Testimony will become part of the public record.

All views will be considered by the Ad Committee and by the full Board. It is anticipated that the Committee will make recommendations to the Governing Board at the NAGB meetings in March and May 2009.

To register to present oral testimony on February 4, 2009 at the Charles Sumner School in Washington, DC, please call Tessa Regis, of the NAGB staff, at 202-357-7500 or send an e-mail to Tessa.Regis@ed.gov by Friday, January 30, 2009. Written testimony should be sent by mail, fax or e-mail for receipt in the Board office by February 6, 2009.

The Board will make an effort to hear testimony from all persons who wish to address it at the hearing without prior registration. Speakers are encouraged to bring written statements for distribution at the hearing.

Testimony should be sent to: National Assessment Governing Board, 800 North Capitol Street, NW.—Suite 825, Washington, DC 20002, Attn: Lawrence Feinberg, Fax: (202) 357-6945, E-mail: Larry.Feinberg@ed.gov.

FOR FURTHER INFORMATION CONTACT: Lawrence Feinberg, National Assessment Governing Board, 800 North Capitol Street, NW., Suite 825, Washington, DC, 20002-4233, Telephone: (202) 357-6942.

SUPPLEMENTARY INFORMATION: The National Assessment Governing Board is established under section 412 of the National Education Statistics Act of 1994, as amended. The Board formulates policy guidelines for the National Assessment of Educational Progress (NAEP). The Board's responsibilities include selecting subject areas to be assessed, developing assessment specifications and frameworks, designing the methodology of the assessment, developing appropriate student achievement levels for each grade and subject tested, developing standards and procedures for interstate and national comparisons, developing guidelines for reporting and disseminating results, and releasing initial NAEP results to the public.

The policy options being considered by the Ad Hoc Committee are presented below. They are not mutually exclusive. Some could go into effect quickly while others would be for medium-term or long-range implementation. NAEP is a representative-sample survey, designed to produce valid, comparable data on the academic achievement of large groups of students. It is prohibited by law from providing results for individual children or schools. The options are being considered because of concern that variations in exclusion and accommodation rates may jeopardize the fairness and comparability of NAEP results.

The options on which public comment is sought are as follows:

(1) Retain current procedures—Testing conditions on NAEP for SD and ELL students follow those on state tests with limited exceptions. Accommodation and exclusion rates are posted in the appendix of NAEP reports. No adjusted scores or cautionary flags.

(2) Adopt uniform national rules for accommodations and exclusions

(a) For Students with Disabilities—Determine testing conditions according to the severity, category, and/or nature of disability or based on brief screener exam.

(b) For English Language Learners—Determine whether to take NAEP in English by English language proficiency screener. Provide NAEP in Spanish if below cut-score.

(c) Provide incentive for schools to encourage testing of SD and ELL students by scoring excluded students at the 5th percentile nationwide instead of the current practice of exclusions not affecting group average. Incentive may be needed to accept uniform rules because student participation in NAEP is voluntary by law.

(3) Conduct targeted testing at ability level

(a) Offer to all students, using assessment booklets at different levels of difficulty—low, medium, and high.

(b) Offer less difficult or “accessible” booklets to SD and ELL only. Might be similar in concept to NCLB “alternate assessments” but must be on NAEP scale.

Determine level by brief locator test or percentile score on state assessment. Follow standard testing procedures.

(4) Adjust scores—Use full population estimates or variant to adjust for exclusions. Present as principal means of reporting in NAEP Report Cards, alternate presentation in appendix, or prominently displayed on NAEP Web site.

(5) Add cautionary flags

(a) For exclusions, if 5 percent or more of sample is excluded from NAEP testing, a cautionary flag would accompany a state's scores. This would be similar to rule in the TIMSS and PIRLS international assessments. Might also flag if exclusion rate changed more than 3 percentage points from prior assessment year.

(b) For accommodations, flag if 10 percent or more of sample is tested under non-standard conditions OR accommodation rate changed more than 5 percentage points from prior assessment year.

(c) Use “reasonable” target exclusion rates (rather than a uniform rate) that vary by demography and testing practice of states. Flag if actual rates exceed targets or change by a defined margin.

(6) Research validity of accommodations most widely-used on state tests—Results may expand or reduce the list of accommodations prohibited by NAEP because they alter a fundamental attribute of the assessment, e.g. reading-aloud the reading assessment or allowing calculators on all sections of math. Studies may include extended time to help determine if time should be deemed fundamental.

(7) Offer a screener exam to determine whether students can “meaningfully participate” in the National Assessment without an accommodation that is provided on state tests but is not permitted by NAEP. Currently, these students are routinely excused from the National Assessment.

(8) Change rules for IEPs to have NAEP considered separately from state tests—Rules for preparing individualized education programs (IEPs) for SD students may be altered by state action or revised by federal regulation, guidance, or law. Separate consideration for participating in NAEP from IEP for state tests because the National Assessment is required to produce valid representative-sample group results for the nation, states, and urban districts and may not provide data or impose consequences on individual students and schools.

(9) Make minor changes in NAEP report language and placement of information about exclusions and accommodations.

In addition to commenting on the options, members of the public are also encouraged to present other relevant views and recommendations.

A detailed summary of the hearing that is informative to the public and consistent with the policy of section 5 U.S.C. 552b(c) will be available to the public within 14 days of the meeting. Records are kept of all Board proceedings and are available for public inspection at the U.S. Department of Education, National Assessment Governing Board, Suite #825, 800 North Capitol Street, NW., Washington, DC, from 9:00 a.m. to 5:00 p.m. Eastern Time, Monday through Friday.

Electronic Access to This Document: You may view this document, as well as all other documents of this Department published in the Federal Register, in text or Adobe Portable Document Format (PDF) on the Internet at the following site: http://www.ed.gov/news/fedregister/index.html To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: www.gpoaccess.gov/nara/index.html.

Dated: January 6, 2009.
Mary Crovo,
Interim Executive Director, National Assessment Governing Board, U.S. Department of Education.

[FR Doc. E9-262 Filed 1-9-09; 8:45 am]

BILLING CODE 4000-01-P